DEPARTMENT OF ENERGY

Federal Energy Regulatory Commission

Combined Notice of Filings

Take notice that the Commission has received the following Natural Gas Pipeline Rate and Refund Report filings:

Filings Instituting Proceedings

Docket Numbers: RP12-609-000.

Applicants: Texas Gas Transmission, LLC.

Description: Report Filing: 2018 Operational Purchases and Sales Report.

Filed Date: 5/1/19.

Accession Number: 20190501-5015.

Comments Due: 5 p.m. ET 5/13/19.

Docket Numbers: RP13-212-000.

Applicants: Boardwalk Storage Company, LLC.

Description: Report Filing: 2018 Operational Purchases and Sales Report.

Filed Date: 5/1/19.

Accession Number: 20190501-5016.

Comments Due: 5 p.m. ET 5/13/19.

Docket Numbers: RP16-864-001.

Applicants: Columbia Gas Transmission, LLC.

Description: Compliance filing Revenue Sharing Report 2019.

Filed Date: 5/1/19.

Accession Number: 20190501-5022.

Comments Due: 5 p.m. ET 5/13/19.

Docket Numbers: RP19-1159-001.

Applicants: Texas Eastern Transmission, LP.

Description: Tariff Amendment: Amendment Filing for Spotlight NRA (Docket RP19-1159) to be effective 5/1/2019.

Filed Date: 5/1/19.

Accession Number: 20190501-5026.

Comments Due: 5 p.m. ET 5/13/19.

Docket Numbers: RP19-1184-000.

Applicants: NEXUS Gas Transmission, LLC.

Description: § 4(d) Rate Filing: Negotiated Rates—Columbia Gas 860005 May 1 Releases (2) to be effective 5/1/2019.

Filed Date: 5/1/19.

Accession Number: 20190501-5013.

Comments Due: 5 p.m. ET 5/13/19.

Docket Numbers: RP19-1186-000.

Applicants: Algonquin Gas Transmission, LLC.

Description: § 4(d) Rate Filing: Negotiated Rates—NSTAR Gas 510482 Releases to be effective 5/1/2019.

Filed Date: 5/1/19.

Accession Number: 20190501-5014.

Comments Due: 5 p.m. ET 5/13/19.

Docket Numbers: RP19-1187-000.

Applicants: Texas Eastern Transmission, LP.

Description: § 4(d) Rate Filing: Rate Schedule MLS-1 Cleanup Filing to be effective 5/31/2019.

Filed Date: 5/1/19.

Accession Number: 20190501-5017.

Comments Due: 5 p.m. ET 5/13/19.

Docket Numbers: RP19-1188-000.

Applicants: ANR Storage Company.

Description: Compliance filing 2019 Operational Purchases and Sales Reports.

Filed Date: 5/1/19.

Accession Number: 20190501-5018.

Comments Due: 5 p.m. ET 5/13/19.

Docket Numbers: RP19-1189-000.

Applicants: Blue Lake Gas Storage Company.

Description: Compliance filing 2019 Operational Purchases and Sales Report.

Filed Date: 5/1/19.

Accession Number: 20190501-5019.

Comments Due: 5 p.m. ET 5/13/19.

Docket Numbers: RP19-1190-000.

Applicants: Great Lakes Gas Transmission Limited Partnership.

Description: Compliance filing 2019 Operational Purchases and Sales Report.

Filed Date: 5/1/19.

Accession Number: 20190501-5021.

Comments Due: 5 p.m. ET 5/13/19.

Docket Numbers: RP19-1191-000.

Applicants: Columbia Gas Transmission, LLC.

Description: § 4(d) Rate Filing: TCRA 2019 Out-of-Cycle to be effective 6/1/2019.

Filed Date: 5/1/19.

Accession Number: 20190501-5028.

Comments Due: 5 p.m. ET 5/13/19.

Docket Numbers: RP19-1192-000.

Applicants: Texas Eastern Transmission, LP.

Description: § 4(d) Rate Filing: Negotiated Rate—CNX to Morgan Stanley 8957586 to be effective 5/1/2019.

Filed Date: 5/1/19.

Accession Number: 20190501-5031.

Comments Due: 5 p.m. ET 5/13/19.

Docket Numbers: RP19-1193-000.

Applicants: Equitrans, L.P.

Description: § 4(d) Rate Filing: Negotiated Capacity Release Agreements—5/1/2019 to be effective 5/1/2019.

Filed Date: 5/1/19.

Accession Number: 20190501-5034.

Comments Due: 5 p.m. ET 5/13/19.

Docket Numbers: RP19-1194-000.

Applicants: Gulf South Pipeline Company, LP.

Description: § 4(d) Rate Filing: Remove expired agreements from Tariff eff 5-1-2019 to be effective 5/1/2019.

Filed Date: 5/1/19.

Accession Number: 20190501-5059.

Comments Due: 5 p.m. ET 5/13/19.

Docket Numbers: RP19-1195-000.

Applicants: Texas Gas Transmission, LLC.

Description: § 4(d) Rate Filing: Remove expired agmts from Tariff eff 5-1-2019 to be effective 5/1/2019.

Filed Date: 5/1/19.

Accession Number: 20190501-5066.

Comments Due: 5 p.m. ET 5/13/19.

Docket Numbers: RP19-1196-000.

Applicants: Kern River Gas Transmission Company.

Description: § 4(d) Rate Filing: 2019 Update to Title Sheets to be effective 5/1/2019.

Filed Date: 5/1/19.

Accession Number: 20190501-5088.

Comments Due: 5 p.m. ET 5/13/19.

Docket Numbers: RP19-1197-000.

Applicants: Tennessee Gas Pipeline Company, L.L.C.

Description: § 4(d) Rate Filing: Volume No. 2- Tidal Energy Marketing (US) L.L.C. SP347780 to be effective 5/1/2019.

Filed Date: 5/1/19.

Accession Number: 20190501-5153.

Comments Due: 5 p.m. ET 5/13/19.

Docket Numbers: RP19-1198-000.

Applicants: Gulfstream Natural Gas System, L.L.C.

Description: Compliance filing 2019 GNGS TUP/SBA Filing.

Filed Date: 5/1/19.

Accession Number: 20190501-5154

Comments Due: 5 p.m. ET 5/13/19.

Docket Numbers: RP19-1199-000.

Applicants: Southeast Supply Header, LLC.

Description: Compliance filing 2019 SESH TUP/SBA Annual Filing.

Filed Date: 5/1/19.

Accession Number: 20190501-5157.

Comments Due: 5 p.m. ET 5/13/19.

Docket Numbers: RP19-1200-000.

Applicants: Sabal Trail Transmission, LLC.

Description: § 4(d) Rate Filing: 2019 TUP/SBA Annual Filing to be effective 6/1/2019.

Filed Date: 5/1/19.

Accession Number: 20190501-5159.

Comments Due: 5 p.m. ET 5/13/19.

Docket Numbers: RP19-1201-000.

Applicants: ETC Tiger Pipeline, LLC.

Description: § 4(d) Rate Filing: Fuel Filing on 5-1-19 to be effective 6/1/2019.

Filed Date: 5/1/19.

Accession Number: 20190501-5163.

Comments Due: 5 p.m. ET 5/13/19.

Docket Numbers: RP19-1202-000.

Applicants: Fayetteville Express Pipeline LLC.

Description: § 4(d) Rate Filing: Fuel Filing on 5-1-19 to be effective 6/1/2019.

Filed Date: 5/1/19.

Accession Number: 20190501-5166.

Comments Due: 5 p.m. ET 5/13/19.

Docket Numbers: RP19-1203-000.

Applicants: Northern Natural Gas Company.

Description: § 4(d) Rate Filing: 20190501 Contact Information Change to be effective 5/1/2019.

Filed Date: 5/1/19.

Accession Number: 20190501-5188.

Comments Due: 5 p.m. ET 5/13/19.

Docket Numbers: RP19-1204-000.

Applicants: Equitrans, L.P.

Description: § 4(d) Rate Filing: Negotiated Retainage Agreements 5-1-2019 to be effective 5/1/2019.

Filed Date: 5/1/19.

Accession Number: 20190501-5280.

Comments Due: 5 p.m. ET 5/13/19.

Docket Numbers: RP19-1205-000.

Applicants: Black Hills Gas Distribution, LLC,Black Hills Service Company, LLC.

Description: Joint Petition for Limited Waivers of Capacity Release Regulations and Policies, et al. of Black Hills Gas Distribution, LLC, et al. under RP19-1205.

Filed Date: 4/30/19.

Accession Number: 20190430-5530.

Comments Due: 5 p.m. ET 5/7/19.

Docket Numbers: RP19-1206-000.

Applicants: Northern Natural Gas Company.

Description: § 4(d) Rate Filing: 20190501 Winter PRA to be effective 11/1/2019.

Filed Date: 5/1/19.

Accession Number: 20190501-5299.

Comments Due: 5 p.m. ET 5/13/19.

Docket Numbers: RP19-1207-000.

Applicants: Natural Gas Pipeline Company of America.

Description: § 4(d) Rate Filing: Amendment to Negotiated Rate Agreement—Tenaska Marketing Ventures to be effective 5/1/2019.

Filed Date: 5/1/19.

Accession Number: 20190501-5320.

Comments Due: 5 p.m. ET 5/13/19.

Docket Numbers: RP19-1208-000.

Applicants: El Paso Natural Gas Company, L.L.C.

Description: § 4(d) Rate Filing: Non-Conforming Agreements Filing (Mex Gas) to be effective 6/1/2019.

Filed Date: 5/1/19.

Accession Number: 20190501-5321.

Comments Due: 5 p.m. ET 5/13/19.

Docket Numbers: RP19-1209-000.

Applicants: El Paso Natural Gas Company, L.L.C.

Description: § 4(d) Rate Filing: Negotiated Rate Agreement Update (APS May 2019) to be effective 5/2/2019.

Filed Date: 5/1/19.

Accession Number: 20190501-5379.

Comments Due: 5 p.m. ET 5/13/19.

Docket Numbers: RP19-1210-000.

Applicants: Southern Star Central Gas Pipeline, Inc.

Description: § 4(d) Rate Filing: Vol 2—Negotiated Rate Agreements—Spotlight to be effective 5/1/2019.

Filed Date: 5/1/19.

Accession Number: 20190501-5387.

Comments Due: 5 p.m. ET 5/13/19.

Docket Numbers: RP19-1211-000.

Applicants: Northern Border Pipeline Company.

Description: Compliance filing 2019 Operational Purchases and Sales Report.

Filed Date: 5/1/19.

Accession Number: 20190501-5396.

Comments Due: 5 p.m. ET 5/13/19.

Docket Numbers: RP19-1212-000

Applicants: Bison Pipeline LLC.

Description: Compliance filing 2019 Operational Purchases and Sales Reports.

Filed Date: 5/1/19.

Accession Number: 20190501-5398.

Comments Due: 5 p.m. ET 5/13/19.

Docket Numbers: RP95-408-086.

Applicants: Columbia Gas Transmission, LLC.

Description: Annual Report on Sharing Profits from Base Gas Sales with Customers of Columbia Gas Transmission, LLC under RP95-408.

Filed Date: 5/1/19.

Accession Number: 20190501-5233.

Comments Due: 5 p.m. ET 5/13/19.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2019.
Kimberly D. Bose,
Secretary.

[FR Doc. 2019-09487 Filed 5-8-19; 8:45 am]

BILLING CODE 6717-01-P